DEPARTMENT OF ENERGY

Federal Energy Regulatory Commission

[Docket No. CP01-402-000]

Williston Basin Interstate Pipeline Company; Notice of Application

July 26, 2001.

Take notice that on July 17, 2001, Williston Basin Interstate Pipeline Company (Williston Basin), P. O. Box 5601, Bismarck, North Dakota 58506-5601, filed in Docket No. CP01-402-000 an abbreviated application pursuant to sections 7(b) and 7(c) of the Natural Gas Act (NGA) for a certificate of public convenience and necessity authorizing the: (1) Installation and operation of three natural gas storage injection/withdrawal wells; and (2) abandonment of three existing natural gas storage injection/withdrawal wells in the Cedar Creek (Baker) Storage Field, Fallon County, Montana, all as more fully set forth in the application which is on file with the Commission and open to public inspection. Copies of this filing are on file with the Commission and are available for public inspection. This filing may also be viewed on the web at http://www.ferc.gov using the “RIMS” link, select “Docket#” and follow the instructions (call 202-208-2222 for assistance).

Specifically, Williston Basin proposes to install and operate: (1) Well WBI No. 3001 Federal in section 26, T9N, R58E; (2) Well WBI No. 3002 Federal in section 10, T8N, R59E; and (3) Well WBI No. 3003 Federal in section 28, T10N, R58E (Proposed Wells). Williston Basin also proposes to plug and abandon: (2) Well WBI No. 27 located in section 26, T9N, R58E; (2) Well WBI No. 72 located in section 22, T8N, R59E; and (3) Well WBI No. 49 located in section 21, T10N, R58E (Existing Wells). Williston Basin states that the drilling of the Proposed Wells and abandonment of the Existing Wells reflects the initiation of a gas storage well replacement program in the Baker Storage Field to maintain current field deliverability and gain operational efficiencies.

Williston Basin says that the deliverability of the Proposed Wells could exceed that of the Existing Wells, but it does not intend to operate the overall field in such a way as to exceed its current firm deliverability of 114,815 Mcf per day. Williston Basin states that the estimated cost to install the Proposed Wells is $507,620 and requests rolled-in rate treatment. Williston Basin further states that the accounting treatment of the abandonment of the Existing Wells is shown in Exhibit Y of the application.

Williston Basin further states that in association with the installation and operation of the Proposed Wells, it plans to construct three field meter stations and approximately 8,711 feet of new 6-inch gas storage field line; and abandon one meter station and approximately 8,401 feet of 3- and 4-inch natural gas storage line. Williston Basin states that this would be done pursuant to its blanket certificate authorized in Docket Nos. CP82-487-000, et al. (30 FERC ¶ 61,143).

Any questions regarding this application should be directed to Keith A. Tiggelaar, Manager—Regulatory Affairs, Williston Basin Interstate Pipeline Company, P. O. Box 5601, Bismarck, North Dakota 58506-5601, at 701-530-1560 or keith.tiggelaar@wbip.com.

There are two ways to become involved in the Commission's review of this project. First, any person wishing to obtain legal status by becoming a party to the proceedings for this project should, on or before August 16, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-19130 Filed 7-31-01; 8:45 am]

BILLING CODE 6717-01-P